DEPARTMENT OF AGRICULTURE

Rural Housing Service

Rural Business-Cooperative Service

Rural Utilities Service

Farm Service Agency

7 CFR Parts 1924 and 1980

RIN 0575-AC56

Environmental Policies and Procedures; Corrections

AGENCY: Rural Business-Cooperative Service, Rural Housing Service, Rural Utilities Service, Farm Service Agency, USDA.

ACTION: Final rule; correction.

SUMMARY: This document corrects errors in the final rule that appeared in the Federal Register of March 2, 2016, entitled “Environmental Policies and Procedures.” The rule replaced two existing rules relating to the Agency's procedures for implementing NEPA.

DATES: This rule is effective May 4, 2016.

FOR FURTHER INFORMATION CONTACT: Kellie M. Kubena, Director, Engineering and Environmental Staff, Rural Utilities Service, Stop 1571, 1400 Independence Ave. SW., Washington, DC 20250-1571; email: Kellie.Kubena@wdc.usda.gov; telephone: (202) 720-1649.

SUPPLEMENTARY INFORMATION: In FR Doc. 2016-03433 of March 2, 2016 (81 FR 11000), make the following correcting amendments:

Exhibit I to Subpart A of Part 1924—[Corrected]

1. On page 11029, in the third column, at the fourteenth line, in amendatory instruction 65, remove “300-1” and add “301-1” in its place.

§ 1980.451 [Corrected]

2. On page 11047, in the third column, at the seventh line from the bottom, in amendatory instruction 101, remove “(h)(3)” and add “(i)(3)” in its place.

3. On page 11048, in the first column, at the first line, remove “(h)” and add “(i)” in its place.

Appendix K to Subpart E of Part 1980—[Corrected]

4. On page 11048, in the first column, at the 12th through 14th lines from the bottom, in amendatory instruction 104, remove “and paragraph C.12. of Section IX. Servicing”.

5. On page 11048, in the second column, below the table, remove lines four (“IX. Servicing.”) through fourteen (“* * * * *”).

Dated:April 20, 2016.
Lisa Mensah,
Under Secretary, Rural Development.
April 26, 2016.
Alexis Taylor,
Deputy Under Secretary, Farm and Foreign Agricultural Services.

[FR Doc. 2016-10381 Filed 5-3-16; 8:45 am]

BILLING CODE 3410-XV-P